DEPARTMENT OF AGRICULTURE

Food and Nutrition Service

Agency Information Collection Activities: Proposed Collection; Comment Request—Child and Adult Care Food Program (CACFP) Sponsor and Provider Characteristics Study

AGENCY: Food and Nutrition Service (FNS), United States Department of Agriculture (USDA).

ACTION: Notice and request for comments.

SUMMARY: In accordance with the Paperwork Reduction Act of 1995, this notice invites the general public and other public agencies to comment on the proposed information collection. This is a new information collection for the Child and Adult Care Food Program (CACFP) Sponsor and Provider Characteristics Study.

DATES: Written comments on this notice must be received by June 27, 2014.

ADDRESSES: Comments are invited on: (a) Whether the proposed collection of information is necessary for the proper performance of Agency functions, including whether the information shall have practical utility; (b) the accuracy of the Agency's estimated burden of the proposed information collection, including the validity of the methodology and assumptions that were used; (c) ways to enhance the quality, utility, and clarity of the information to be collected; and (d) ways to minimize the burden of the information collection on respondents, including use of appropriate automated, electronic, mechanical, or other technological methods of data collection.

Written comments may be sent to: Richard Lucas, Acting Deputy Administrator, Office of Policy Support, Food and Nutrition Service, USDA, 3101 Park Center Drive, Room 1014, Alexandria, VA 22302. Comments may also be submitted via fax to the attention of Richard Lucas at 703-305-2576 or via email to richard.lucas@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact Allison Magness, Ph.D., R.D. Social Science Research Analyst, Special Nutrition Evaluation Branch, Office of Policy Support, Food and Nutrition Service, USDA, 3101 Park Center Drive, Room 1014, Alexandria, VA 22302. Comments may also be submitted via fax to the attention of Allison Magness at 703-305-2576 or via email to allison.magness@fns.usda.gov.

SUPPLEMENTARY INFORMATION:

Title: Child and Adult Care Food Program (CACFP) Sponsor and Provider Characteristics Study.

Form Number: N/A.

OMB Number: 0584-NEW.

Expiration Date: Not yet determined.

Type of Request: New collection.

Abstract: The objective of CACFP Sponsor and Provider Characteristics Study is to provide FNS, the Congress, advocates, and others interested in the CACFP with information that accurately documents the current program. The CACFP has changed considerably since the last study of program sponsors and providers was completed in 1997. There have been multiple legislative and regulatory actions, including the Healthy Hunger Free Kids Act of 2010, which changed the CACFP in ways affecting the characteristics of sponsors and providers since 1997. Even a cursory look at the available CACFP administrative data shows that the characteristics of sponsors, participating centers and family day care homes (FDCHs), and the children they serve are quite different from those reported in the 1997 study. For example, 42 percent of the children participating in the program were in child care centers, and 58 percent were in FDCHs in 1997 (Glantz, et al., 1997). In contrast by Fiscal Year 2012, 74 percent of the children were served in centers, while only 26 percent were served in homes (USDA, 2013). Major shifts like this require an examination of the CACFP as it exists today.

The goal of this study is to conduct a national survey of CACFP sponsors and providers that will provide policy-makers, advocates, and the general public with up-to-date information about who is sponsoring child care providers; the type of training and technical assistance sponsors receive from their State Child Nutrition (CN) Agency; how often and what aspects of the program States monitor; how sponsors operate and manage the program to ensure its integrity, as well as compliance with Federal and State regulation; and what types of providers do sponsors serve. Similarly, the study will provide up-to-date information on the characteristics of the children served by each type of CACFP provider. It will examine four key characteristics of children served by each type of provider:

1. Demographic characteristics including the age distribution and racial/ethnic composition.

2. Household characteristics including the income distribution of households; poverty level and income eligibility status (for centers) and tiering status (reimbursement level for FDCHs); and other Federal benefits received.

3. Amount of time children spend in care including hours per day, days per week, and total amount of time spent in care over the course of a typical week.

4. Number of each of the types of meals and snacks served to children while in care (e.g., morning snack, breakfast, lunch, afternoon snack, etc.).

It will also examine how each type of provider operates and administers the CACFP; staff training; sponsor provided training and monitoring; and providers' funding sources.

This study will provide useful information for responding to congressional inquiries about the program and for the development of FNS budget proposals. However, it is the importance of the CACFP that underlies the need for this study. The program provides food benefits for millions of children, most of them from low-income households. By subsidizing meals, the CACFP makes it possible for more child care providers to operate than would otherwise be the case.

The study activities subject to this notice include extracting data from the administrative records of a nationally representative sample of 20 State CN Agencies, and conducting Web/mail/telephone surveys of a nationally representative sample of approximately:

• 54 State CN Directors,

• 200 directors of independent (self-sponsored) child care centers (ICCC),

• 200 directors of child care center sponsor organizations,

• 612 directors of sponsors of at-risk after-school centers,

• 270 directors of Head Start sponsors,

• 480 directors of family day care home sponsor organizations,

• 200 directors of sponsored child care centers,

• 812 directors of at-risk after-school centers,

• 270 directors or lead teachers from Head Start Centers, and

• 400 family day care providers.

Each respondent will be sent an email invitation to participate in the study with a link to a web survey. The invitations will also include a toll-free number for respondents to call if they have any questions or need additional information. Respondents without access to the internet will be sent a mail survey to complete. Respondents that fail to complete the Web/mail survey after several follow-up attempts will be called and given the opportunity to complete the survey as a telephone interview.

Affected Public: State, Local or Tribal Government (54) and Business-not-for-profit (4,088) sponsors of CACFP child care centers and FDCHs, and participating centers and homes.

Type of Respondents: State CN Directors, child care center sponsors, FDCH sponsors, child care center directors, and FDCH providers.

Estimated Total Number of Respondents: 4,142.

Frequency of Response: Once annually.

Estimated Annual Responses: 4,142.

Estimate of Time per Respondent and Annual Burden: The total public reporting burden for this collection of information is estimated at 3,449 hours. The estimated burden for each type of respondent is given in the table below. Across all study respondents and non-respondents the estimated average burden is 0.84 hours (about 50 minutes).

BILLING CODE 3410-30-P

Dated: April 18, 2014.
Yvette S. Jackson,
Acting Administrator, Food and Nutrition Service.

[FR Doc. 2014-09541 Filed 4-25-14; 8:45 am]

BILLING CODE 3410-30-C